DEPARTMENT OF AGRICULTURE

Animal and Plant Health Inspection Service

7 CFR Part 301

[Docket No. APHIS-2008-0072]

Emerald Ash Borer; Quarantined Areas; Maryland, Michigan, Minnesota, Missouri, Pennsylvania, Virginia, West Virginia, and Wisconsin

AGENCY: Animal and Plant Health Inspection Service, USDA.

ACTION: Affirmation of interim rule as final rule.

SUMMARY: We are adopting as a final rule, without change, an interim rule that amended the regulations to add areas in Maryland, Michigan, Minnesota, Missouri, Pennsylvania, Virginia, West Virginia, and Wisconsin to the list of areas quarantined because of emerald ash borer (EAB). The interim rule was necessary to prevent the artificial spread of EAB into noninfested areas of the United States. As a result of the interim rule, the interstate movement of regulated articles from those areas is restricted.

DATES: Effective on January 10, 2011, we are adopting as a final rule the interim rule published at 74 FR 47999-48001 on September 21, 2009.

FOR FURTHER INFORMATION CONTACT: Mr. Paul Chaloux, National Program Coordinator, Emerald Ash Borer Program, Emergency and Domestic Programs, PPQ, APHIS, 4700 River Road Unit 137, Riverdale, MD 20737-1231; (301) 734-0917.

SUPPLEMENTARY INFORMATION:

Background

The emerald ash borer (EAB) (Agrilus planipennis) is a destructive woodboring insect that attacks ash trees (Fraxinus spp., including green ash, white ash, black ash, and several horticultural varieties of ash). The insect, which is indigenous to Asia and known to occur in China, Korea, Japan, Mongolia, the Russian Far East, Taiwan, and Canada, eventually kills healthy ash trees after it bores beneath their bark and disrupts their vascular tissues.

The EAB regulations in 7 CFR 301.53-1 through 301.53-9 (referred to below as the regulations) restrict the interstate movement of regulated articles from quarantined areas to prevent the artificial spread of EAB to noninfested areas of the United States.

In an interim rule ¹ effective and published in the Federal Register on September 21, 2009 (74 FR 47999-48001, Docket No. APHIS-2008-0072), we amended § 301.53-3(c) to add portions of Maryland, Michigan, Minnesota, Missouri, Pennsylvania, Virginia, West Virginia, and Wisconsin to the list of areas quarantined for EAB.

¹ To view the interim rule, go to http://www.regulations.gov/fdmspublic/component/main?main=DocketDetail&d=APHIS-2008-0072.

Comments on the interim rule were required to be received on or before November 20, 2009. We did not receive any comments. Therefore, for the reasons given in the interim rule, we are adopting the interim rule as a final rule without change.

This action also affirms the information contained in the interim rule concerning Executive Orders 12866, 12372, and 12988, and the Paperwork Reduction Act.

Further, for this action, the Office of Management and Budget has waived its review under Executive Order 12866.

Regulatory Flexibility Act

This rule affirms an interim rule that amended the EAB regulations by adding areas in Maryland, Michigan, Minnesota, Missouri, Pennsylvania, Virginia, West Virginia, and Wisconsin to the list of areas quarantined because of EAB.

In accordance with 5 U.S.C. 604, we have performed a final regulatory flexibility analysis, which is summarized below, regarding the economic effects of this rule on small entities. Copies of the full analysis are available on the Regulations.gov Web site (see footnote 1 in this document for a link to Regulations.gov) or by contacting the person listed under FOR FURTHER INFORMATION CONTACT.

If left unregulated, the spread of EAB could negatively impact several industries including nurseries, timber operations, and landscaping. These potential economic impacts would likely be much greater than government program costs and any additional costs incurred from the expansion of the quarantine area. While some firms may have been negatively affected by the interim rule, those effects will be limited to those firms that ship regulated products interstate or from quarantined areas to areas that are not under quarantine. Such firms will be required to obtain a certificate or limited permit from an APHIS inspector in order to comply with the regulation or enter into a compliance agreement with APHIS for the inspection and certification of the articles to be moved. Additional restrictions on movement during adult fly season (roughly May through September) may result in additional impacts on entities in some quarantined counties. Limited information was available on the extent to which firms in the potentially affected industries deal in ash products.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 74 FR 47999-48001 on September 21, 2009.

Done in Washington, DC, this 4th day of January 2011.
Kevin Shea,
Acting Administrator, Animal and Plant Health Inspection Service.

[FR Doc. 2011-227 Filed 1-7-11; 8:45 am]

BILLING CODE 3410-34-P